DEPARTMENT OF DEFENSE

Department of the Air Force

Notice of Intent To Prepare an Environmental Impact Statement for the Ground Based Strategic Deterrent Deployment and Minuteman III Decommissioning and Disposal

AGENCY: Department of the Air Force, Department of Defense.

ACTION: Notice of intent.

SUMMARY: The United States Air Force (Air Force) is issuing this Notice of Intent (NOI) to advise the public of its intent to prepare an Environmental Impact Statement (EIS) to evaluate potential impacts on the human and natural environments of deploying the Ground Based Strategic Deterrent (GBSD) intercontinental ballistic missile (ICBM) system and decommissioning and disposing of the Minuteman III ICBM system. The Air Force invites public participation in the scoping process to determine the scope and significant issues to be analyzed in depth in the EIS and eliminate issues which are not significant.

DATES: A public scoping period of 45-days will take place starting from the date of this NOI publication in the Federal Register. Comments will be accepted at any time during the environmental impact analysis process; however, to ensure the Air Force has sufficient time to consider public scoping comments during preparation of the Draft EIS, please submit comments within the 45-days scoping period. Major milestone dates for the GBSD EIS are as follows:

• Draft EIS and Notice of Availability (NOA) Publication, Spring 2022

• Draft EIS Public Comment Period and Hearing, Spring 2022

• Final EIS and NOA Publication, Spring 2023

• Final ROD signature, Spring 2023

Given the complexity and the scope of this proposal, the Air Force anticipates the environmental analysis to extend past two years for completion and has received senior agency official approval.

ADDRESSES: For GBSD deployment EIS inquiries or requests for printed or digital copies of the scoping materials, please contact Capt Christina Camp, phone: (318) 456-6519, or request materials by email: AFGSC.GBSD.ImpactStudy@us.af.mil. The public and interested parties can submit their comments through the project website at www.gbsdeis.com; or mail comments to AFCEC/CZN, Attn: GBSD Project EIS, 2261 Hughes Avenue, Suite 155, JBSA Lackland TX 78236-9853; FedEx and UPS deliveries to AFCEC/CZN, Attn: GBSD Project EIS; 3515 S General McMullen, San Antonio, TX 78226-9853.

SUPPLEMENTARY INFORMATION: The purpose of the proposed action is to replace all ground based Minuteman III weapons systems within the continental United States with the GBSD system. The proposed action is needed to meet national security requirements and to comply with the John S. McCain National Defense Authorization Act for Fiscal Year 2019 (Pub. L. 115-232 § 1663, 132 Stat. 2153), which directs the Air Force to develop and implement a strategy “to accelerate the development, procurement, and fielding of the ground-based strategic deterrent program.” The scope of the deployment activities would include replacing all ground based Minuteman III ICBMs in the United States, including motors, interstages, and missile guidance sets, with the GBSD weapon system, a technologically advanced ICBM system. All launch facilities, communication systems, infrastructure, and technologies would be modernized and replaced as necessary to support the GBSD system.

The Secretary of the Air Force announced that the GBSD deployment will take place at three sequenced Operational Locations 1-3 (“Ops 1-3”), with the scope of each Ops location occurring both on-base and in the associated missile fields. The Ops locations are the alternatives being consider in the EIS. Each location is the preferred alternative for its respective sequenced order, and includes Francis E. Warren Air Force Base (AFB) WY (Ops-1); Malmstrom AFB, MT (Ops-2); and Minot AFB, ND (Ops-3). The additional maintenance, training, storage, testing, support, decommissioning, and disposal actions would occur at Hill AFB, UT; the Utah Test and Training Range (UTTR), UT; Camp Guernsey, WY; and Camp Navajo, AZ.

The EIS may consider alternatives that include deploying the GBSD system in phases. The Proposed Action would not include generating or disposing of nuclear material, and the number of ground based nuclear missiles would remain unchanged. Deployment of the GBSD system would begin in the mid-2020s, extending the capabilities of the ground-based leg of the U.S. nuclear triad through at least 2075.

The EIS will analyze facility construction, modification, and operations at and around Francis E. Warren AFB and Camp Guernsey, Malmstrom AFB, Minot AFB, Hill AFB and UTTR, and Camp Navajo. During the transition from Minuteman III to GBSD, the two weapon systems would be partially operated and maintained concurrently for several years; therefore, the EIS also will analyze the overlapping actions and resulting impacts of conducting aspects of the programs in parallel. The EIS will also analyze the No Action Alternative which will also be fully considered. It serves as the baseline against which to compare the Proposed Action. Under the No Action Alternative, the Air Force would continue to maintain and operate the Minuteman III weapon system in its current configuration and the GBSD system would not be deployed. Expected environmental impacts are assumed to result from ground disturbing activities associated with construction of the GBSD system. It is anticipated that these environmental impacts, will be mitigated to the extent practical or avoided where possible. Further, the Air Force will pursue all required Federal and State permits, licenses, and other authorizations during the course of this EIS process, including but not limited to consultations under the National Historic Preservation Act of 1966 (54 U.S.C. 300101 et seq.) and the Endangered Species Act of 1973 (16 U.S.C. 1531 et seq.), as well as permits under the Resource Conservation and Recovery Act (42 U.S.C. 6901 et seq).

The scoping process allows and invites early and meaningful participation by the public and is used to define the full range of issues and concerns to be evaluated in the EIS. As such, the Air Force is soliciting scoping comments and/or identification of potential alternatives, information, and analysis relevant to the proposed action from interested local, state, and federal agencies and organizations; Native American Tribes; and members of the public. Concurrently, public scoping notices will be announced locally within the proposed actions region of influence. Due to public health concerns related to COVID-19, the Air Force will not hold face-to-face public scoping meetings. Public scoping will be accomplished remotely via the project website that includes materials on the project website at www.gbsdeis.com. The website provides posters, slides, other meeting materials, and a capability to provide public scoping comments. To make alternative arrangements to receive printed or digital copies of the scoping materials, please contact Capt Christina Camp at (318) 456-6519, or by email: AFGSC.GBSD.ImpactStudy@us.af.mil.

Adriane Paris,
Acting Air Force Federal Register Liaison Officer.

[FR Doc. 2020-21220 Filed 9-24-20; 8:45 am]

BILLING CODE 5001-10-P